DEPARTMENT OF ENERGY

Agency Emergency Information Collection Reinstatement

AGENCY: U.S. Department of Energy.

ACTION: Submission for Office of Management and Budget (OMB) review; comment request.

SUMMARY: The Department of Energy (DOE), pursuant to the Paperwork Reduction Act of 1995, intends to extend for three years, an information collection request (OMB Control Number 1910-1700) with the Office of Management and Budget (OMB). The proposed voluntary collection will request that an individual or an authorized designee provide pertinent information for easy record retrieval allowing for increased efficiencies and quicker processing. Pertinent information includes the requester's name, shipping address, phone number, email address, previous work location, the action requested, and any identifying data that will help locate the records (e.g., maiden name, occupational license number, time and place of employment).

DATES: Comments regarding this collection must be received on or before April 28, 2014. If you anticipate that you will be submitting comments, but find it difficult to do so within the period of time allowed by this notice, please advise the OMB Desk Officer of your intention to make a submission as soon as possible. The OMB Desk Officer may be telephoned at 202-395-4718.

ADDRESSES: Written comments should be sent to:

OMB Desk Officer, Office of Information and Regulatory Affairs, Office of Management and Budget, New Executive Office Building, 735 17th Street NW., Room 10102, Washington, DC 20503

and to

Director, Records Management Division, Office of the Chief Information Officer, U.S. Department of Energy, 19901 Germantown Rd., Room G-312, Germantown, MD 20874, informationcollection@hq.doe.gov.

FOR FURTHER INFORMATION CONTACT: Christina Rouleau, Paperwork Reduction Act Officer, Office of the Chief Information Officer, U.S. Department of Energy, 19901 Germantown Rd., Room G-312, Germantown, MD 20874, (301) 903-6227, informationcollection@hq.doe.gov.

SUPPLEMENTARY INFORMATION: This information collection request contains: (1) OMB No. 1910-1700; (2) Information Collection Request Title: Records and Administration; (3) Type of Request: Regular; (4) Purpose: The Privacy Act Information Request Form assists the Department of Energy in processing privacy requests submitted by an individual or an authorized designee wherein he or she is requesting records the government may maintain on them. This form will increase efficiencies, including, but not limited to, providing for quicker processing of privacy requests by asking of the individuals or their designees the pertinent information for easy record retrieval; (5) Annual Estimated Number of Respondents: 135; (6) Annual Estimated Number of Total Responses: 135; (7) Annual Estimated Number of Burden Hours: 45 hrs.; and, (8) Annual Estimated Reporting and Recordkeeping Cost Burden: N/A.

Statutory Authority: The Privacy Act of 1974; 5 U.S.C. 552(a); 10 CFR 1008.7; and, DOE Order 206.1.

Issued in Washington, DC.
Troy Manigault,
Departmental Records Officer, Office of the Chief Information Officer.

[FR Doc. 2014-06781 Filed 3-26-14; 8:45 am]

BILLING CODE 6450-01-P